DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held September 15-18, 2003, starting at 9 a.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 186 meeting. Note: Specific working group sessions will be held on September 15, 16, and 17. The plenary agenda will include:

September 18

• Opening Plenary Session (Chairman's Introductory Remarks, Review of Meeting Agenda, Review/Approval of Previous Meeting Summary)

• SC-186 Activity Reports

• WG-1, Operations & Implementation

• WG-2, Traffic Information Service—Broadcast (TIS-B)

• WG-3, 1090 MHz Minimum Operational Performance Standard (MOPS)

• WG-4, Application Technical Requirements

• WG-5, Universal Access Transceiver (UAT) MOPS

• WG-6, Automatic Dependent Surveillance-Broadcast (ADS-B) Minimum Aviation System Performance Standards (MASPS)

• EUROCAE WG-51 Activity Report

• Review ASA MASPS

• Closing Plenary Session (Date, Place and Time of Next Meeting, Other Business, Review Actions Items/Work Program, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 15, 2003.
Robert Zoldos,
FAA Systems Engineer, RTCA Advisory Committee.

[FR Doc. 03-21962 Filed 8-26-03; 8:45 am]

BILLING CODE 4910-13-M